DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 16, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on November 5, 2024.
Donald P. Burger,
Chief, General Approvals and Permits Branch.

Application No. | Applicant | Regulation(s) affected | Nature of the special permits thereof
Special Permits Data—Granted
21729-N | SodaStream USA, Inc | 173.306(a)(1) | To authorize the transportation in commerce of carbon dioxide, compressed in cylinders with a capacity exceeding 4 fluid ounces as limited quantities.
21733-N | Cirkul, Inc | 171.2(k), 172.700(a), 172.202(a)(5)(iii)(B) | To authorize the transportation in commerce of used DOT 3AL cylinders with a gauge pressure less than 200 kPa (29.0 psig/43.8 psia) at 20 °C (68 °F).
21739-N | G-Shang Metal Corporation | 173.301b(a) | To authorize the manufacture, mark, sale, and use of non-DOT specification cylinders that meet the design and construction requirements for UN composite cylinders specified in § 178.71(1)(ii) and in ISO Standard 11119-2, except as specified herein, for the transportation in commerce of the hazardous materials authorized by this special permit.
21796-N | Diversey, Inc | 173.158(f)(3) | To authorize the transportation in commerce of nitric acid with inner packagings that exceed the quantities authorized in the Hazardous Materials Regulations.
21802-N | Technologies Mindcore Inc | 172.301(c), 173.304(a) | To authorize the transportation in commerce of sulfur hexafluoride in a non-DOT specification pressure vessel, which is a component of an electric utility circuit interrupter unit.
21825-N | Wisconsin Central Ltd | 174.85(c), 174.85(d) | To authorize, under certain circumstances, the movement of freight trains utilizing a “light locomotive consist” of no more than three locomotives attached to the rear end of a stalled train without positioning buffer cars separating these locomotives from the rear placarded hazardous materials cars in the train.
21849-N | Amazon.com, Inc | 172.320, 173.56(b) | To authorize the one-time, one way transportation of certain Division 1.4G products for the purpose of disposal.
21851-N | Peninsula Terminal Company | 174.85(d) | To authorize the transportation in commerce of UN1830, sulfuric acid by rail with a placarded car next to the locomotive during “shoving movements.”
21852-N | National Aeronautics and Space Administration | 173.226(b) | To authorize the transportation in commerce of methylhydrazine in the packaging specified in paragraph 7.a. of the special permit.
21872-N | County of Teton | 172.200, 172.300, 173.27, 175.33, 175.75, 175.30(a), 175.30(a)(1), 175.30(b), 175.30(c), 175.30(e) | To authorize the transportation in commerce of specific hazardous materials via external load operations without marking, labelling, or shipping papers.
Special Permits Data—Denied
21791-N | Resonac America, Inc | 171.23(a), 171.23(a)(3) | To authorize the transportation in commerce of non-DOT specification cylinders manufactured to a foreign specification that contain dichlorosilane.
21862-N | Dyno Nobel Inc | 180.517(b)(4) | To authorize the transportation of railcar GATX 073838 loaded with UN1830 from TCI Rail to Cornerstone Chemical.
Special Permits Data—Withdrawn

[FR Doc. 2024-26390 Filed 11-13-24; 8:45 am]

BILLING CODE 4910-60-P